DEPARTMENT OF DEFENSE

Office of the Secretary

National Defense University Visitors (BOV) Open Meeting

AGENCY: Department of Defense, National Defense University

ACTION: Notice.

SUMMARY: On October 23, 2006 the Department of Defense published a notice on National Defense University Visitors (BOV) open meeting. This notice corrects an error in the summary.

FOR FURTHER INFORMATION CONTACT: Mr. Roy Austin, 202-685-2649.

Correction

In Federal Register at 71 FR 62096, the SUMMARY of the notice, “President” is corrected to read “Designated Federal Officer”. All other information remains unchanged.

Dated: November 1, 2006.
L.M. Bynum,
Alternate OSD Federal Register Liaison Officer, DoD.

[FR Doc. 06-9097 Filed 11-6-06; 8:45 am]

BILLING CODE 5001-06-M